DEPARTMENT OF ENERGY

Federal Energy Regulatory Commission

Notice of Commission Staff Attendance

The Federal Energy Regulatory Commission (Commission) hereby gives notice that members of the Commission's staff may attend the following meetings related to the transmission planning activities of the PJM Interconnection, L.L.C. (PJM):

PJM Planning Committee

August 13, 2015, 9:30 a.m.-12:00 p.m. (EST)

PJM Transmission Expansion Advisory Committee

August 13, 2015, 11:00 a.m.-3:00 p.m. (EST)

The above-referenced meetings will be held at: PJM Conference and Training Center, PJM Interconnection, 2750 Monroe Boulevard, Audubon, PA 19403.

The above-referenced meetings are open to stakeholders.

Further information may be found at www.pjm.com.

The discussions at the meetings described above may address matters at issue in the following proceedings:

Docket Nos. ER15-33, et al., The Dayton Power and Light Company.

Docket No. ER15-994, PJM Interconnection, L.L.C.

Docket No. ER14-2867, Baltimore Gas & Electric Company, et al., and PJM Interconnection, L.L.C.

Docket Nos. ER14-972 and ER14-1485, PJM Interconnection, L.L.C.

Docket No. ER14-1485, PJM Interconnection, L.L.C.

Docket Nos. ER13-1957, et al., ISO New England, Inc. et al.

Docket Nos. ER13-1944, et al., PJM Interconnection, L.L.C.

Docket No. ER15-1344, PJM Interconnection, L.L.C.

Docket No. ER15-1387, PJM Transmission Owners.

Docket No. EL15-18, Consolidated Edison Company of New York, Inc. v. PJM Interconnection, L.L.C.

Docket No. EL15-41, Essential Power Rock Springs, LLC et al. v. PJM Interconnection, L.L.C.

Docket No. ER13-1927, et al., PJM Interconnection- SERTP.

Docket No. EL15-79, TransSource, LLC v. PJM Interconnection, L.L.C.

For more information, contact the following:

Jonathan Fernandez, Office of Energy Market Regulation, Federal Energy Regulatory Commission, (202) 502-6604 Jonathan.Fernandez@ferc.gov.

Alina Halay, Office of Energy Market Regulation, Federal Energy Regulatory Commission, (202) 502-6474, Alina.Halay@ferc.gov.

Dated: August 5, 2015.
Nathaniel J. Davis, Sr.,
Deputy Secretary.

[FR Doc. 2015-19690 Filed 8-10-15; 8:45 am]

BILLING CODE 6717-01-P